DEPARTMENT OF THE INTERIOR

National Park Service

[NPS-PWR-PWRO-12863; PPPWSAJHA0 PPMPSAS1Z.Y00000]

Approval of Record of Decision for Relocation of Cattle Point Road, San Juan Island National Historical Park, San Juan County, Washington

AGENCY: National Park Service, Interior.

ACTION: Notice of Record of Decision.

SUMMARY: Pursuant to § 102(2)(C) of the National Environmental Policy Act of 1969 (Pub. L. 91-190, as amended) and the regulations promulgated by the Council on Environmental Quality (40 CFR 1505.2), the Department of the Interior, National Park Service has prepared and approved a Record of Decision for the Final Environmental Impact Statement for the relocation of the Cattle Point Road at San Juan Island National Historical Park. The requisite no-action “wait period” was initiated on October 5, 2012, with the Environmental Protection Agency's publication of the Federal Register notice of the filing of the Final EIS.

Decision: As soon as practical San Juan Island National Historical Park will begin to implement design and initiate construction of the Cattle Point Road relocation project, in concert with the Federal Highway Administration and San Juan County. Duration of the construction phase is expected to last approximately two years. The park will undertake construction as detailed in the Preferred Alternative (Alternative B) in the Final EIS (which includes realignment of 4,950 feet of roadway approximately 300 feet upslope of the current location, which will subsequently be restored to a natural appearance). There are no substantive changes from the course of action as presented in the Draft EIS. The full range of foreseeable environmental consequences was assessed, and appropriate mitigation measures are included in the approved project. Both a No Action alternative and two additional alternatives were identified and analyzed in the Draft and Final EIS. Alternative B was deemed to be the “environmentally preferred” course of action.

Copies: Interested parties desiring to review the Record of Decision may obtain a copy by contacting the Superintendent, San Juan Island National Historical Park, Box 429, Friday Harbor, Washington, 98250 or via telephone request at (360) 378-2240.

Dated:April 17, 2013.
Christine S. Lehnertz,
Regional Director, Pacific West Region.

[FR Doc. 2013-15122 Filed 6-25-13; 8:45 am]

BILLING CODE 4312-FF-P